DEPARTMENT OF EDUCATION

[Docket No.: ED-2025-SCC-0086]

Agency Information Collection Activities; Submission to the Office of Management and Budget for Review and Approval; Comment Request; National Public Education Financial Survey (NPEFS) 2025-2027

AGENCY: Institute of Education Sciences (IES), Department of Education (ED).

ACTION: Notice.

SUMMARY: In accordance with the Paperwork Reduction Act (PRA) of 1995, the Department is proposing an extension without change of a currently approved information collection request (ICR).

DATES: Interested persons are invited to submit comments on or before December 26, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: Requests for additional information or specific questions related to collection activities should be directed to Chris Greene, Senior Advisor, Institute of Education Sciences, 202-453-5926 or chris.greene@ed.gov.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Public Education Financial Survey (NPEFS) 2025-2027.

OMB Control Number: 1850-0067.

Type of Review: Extension without change of a currently approved ICR.

Respondents/Affected Public: State, Local, and Tribal Governments.

Total Estimated Number of Annual Responses: 56.

Total Estimated Number of Annual Burden Hours: 7,327.

Abstract: The National Public Education Financial Survey (NPEFS) is an annual collection of state-level finance data that has been included in the National Center for Education Statistics (NCES) Common Core of Data (CCD) since FY 1982 (school year 1981-82). The U.S. Census Bureau (Census), Economic Reimbursable Surveys Division, administers the NPEFS data collection for NCES under interagency agreement in conjunction with the Local Education Agency (School District) Finance Survey (F-33) (OMB #0607-0700) and the School-Level Finance Survey (SLFS) (OMB #1850-0930). NPEFS is a comprehensive source of state-level finance data for public education collected on a nationwide scale using uniform definitions, concepts, and procedures. The collection includes the revenues, expenditures, and average daily attendance of all publicly funded schools and elementary-secondary local education agencies (LEAs), state payments on behalf of LEAs, and state support for a free public education for students in prekindergarten through 12th grade. In this notice, NCES is announcing its intention to extend the date of clearance for NPEFS, without change, to the currently approved collection.

Detailed information about the collection, including the currently approved collection, can be found at https://www.reginfo.gov/public/do/PRAOMBHistory?ombControlNumber=1850-0067.

NPEFS data are used to calculate a state's “average per-pupil expenditure” (SPPE) for elementary and secondary education, as defined by Title 20 U.S.C., Section 7801, paragraphs 1, 2, 3, 12, 26, and 48. SPPE data are used in calculating allocations for certain formula grant programs, including, but not limited to, Title I, Part A, of the Elementary and Secondary Education Act of 1965 (ESEA), Impact Aid, and Indian Education programs. Other programs, such as the Education for Homeless Children and Youth program under title VII of the McKinney-Vento Homeless Assistance Act, and the Student Support and Academic Enrichment Grants under title IV, part A of the ESEA make use of SPPE data indirectly because their formulas are based, in whole or in part, on State title I, part A, allocations.

Data will be collected from State Education Agencies (SEAs) for all 50 states, the District of Columbia, American Samoa, the Northern Mariana Islands, Guam, Puerto Rico, and the Virgin Islands. SEAs appoint state fiscal coordinators to work with NCES and the U.S. Census Bureau to provide accurate and comparable data across states and jurisdictions. SEAs typically collect finance data from school districts for their own uses. Many states produce a state-specific chart of accounts or accounting manual to assist school districts in classifying and reporting finance data and producing government-wide financial statements. Uniform definitions and concepts of revenues and expenditures are defined by the NCES handbook Financial Accounting for Local and State School Systems.

Comparative data on resources and spending patterns is helpful for states to evaluate the effectiveness of their programs and services. The products of this data collection make it possible for data users to search within a single database to obtain information on such things as instruction and student support services expenditures per pupil; expenditures on salaries and benefits, supplies, and purchased services; and the percent of school system funding from state, local, and federal sources. Education finance statistics provided by this collection allow for state-level comparisons of how public elementary-secondary education systems receive their funding and how they are spending their funds.

Ross Santy,
Chief Data Officer Office of Planning, Evaluation and Policy Development

[FR Doc. 2025-20981 Filed 11-24-25; 8:45 am]

BILLING CODE 4000-01-P